DEPARTMENT OF TRANSPORTATION

Federal Highway Administration

Environmental Impact Statement: Erie and Genesee Counties, New York

AGENCY: Federal Highway Administration (FHWA), DOT; New York State Department of Transportation (NYSDOT).

ACTION: Revised notice of intent.

SUMMARY: The FHWA is issuing this revised notice to advise the public that FHWA and NYSDOT will not be preparing an Environmental Impact Statement (EIS) for the proposed project to improve or relocate the Williamsville Toll Barrier in the counties of Erie and Genesee, New York (NYSDOT Project Identification Number: 5528.28). A Notice of Intent to prepare an EIS was published in the Federal Register on February 16, 2000.

FOR FURTHER INFORMATION CONTACT: Jonathan McDade, Division Administrator, Federal Highway Administration, New York Division, Leo W. O'Brien Federal Building, 9th Floor, Clinton Avenue and North Pearl Street, Albany, New York 12207, Telephone: (518) 431-4127, or Michael A. Shamma, New York State Thruway Authority, 200 Southern Boulevard, P.O. Box 189, Albany, New York 12201-0189.

SUPPLEMENTARY INFORMATION: The FHWA, in cooperation with the New York State Department of Transportation (NYSDOT), and the New York State Thruway Authority (NYSTA), will not prepare an EIS as previously intended on a proposal to relocate or improve the Williamsville Toll Barrier in the Town of Amherst, Erie County, New York. The purpose of the project was to develop alternatives to address safety and operational concerns, relieve congestion, and address community concerns about air and noise pollution associated with the toll barrier. However, during the timeframe of the environmental studies, significant fiscal restraints, right of way takings, potential environmental impacts, and public controversy have significantly deteriorated the viability of the current project. In addition, new tolling technology, All Electronic Toll Collection (AETC) that is currently in the pilot testing stage for NYSTA, may reduce the lifespan of a new Toll Barrier from 50 years down to 10-15 years. This would reduce the benefit cost ratio to a point where it would not be a prudent financial investment. NYSTA has used relevant information from the environmental studies completed to date and prepared a feasibility assessment on immediate and mid-term improvements to the current toll barrier that will improve operations, safety, and reduce congestion. Proposed immediate actions in the feasibility study will improve operations and safety, and mid-term improvements have the potential to address all capacity issues at the barrier today, as well as maintain viability of the toll plaza for the next 10 years. The improvements now being considered will not have a significant impact on the environment and will be progressed as Categorical Exclusion(s) or equivalent under the State Environmental Quality Review Process.

(Catalog of Federal Domestic Assistance Program Number 20.205, Highway Planning and Construction. The regulations implementing Executive Order 12372 regarding intergovernmental consultation on Federal programs and activities apply to this program.)

Authority: 23 U.S.C. 315; 23 CFR 771.123.

Issued on: September 23, 2013.
Michael Canavan,
Chief, Operating Officer, Federal Highway Administration, Albany, New York .

[FR Doc. 2013-23585 Filed 9-27-13; 8:45 am]

BILLING CODE 4910-22-P